DEPARTMENT OF HEALTH AND HUMAN SERVICES

National Institutes of Health

Center for Scientific Review; Amended Notice of Meeting

Notice is hereby given of a change in the meeting of the Center for Scientific Review Special Emphasis Panel, Fellowships: Infectious Diseases and Immunology A Study Section, April 3, 2024, 10:00 a.m. to April 4, 2024, 7:00 p.m., National Institutes of Health, Rockledge II, 6701 Rockledge Drive, Bethesda, MD, 20892 which was published in the Federal Register on March 8, 2024, 89 FR 16776, Doc 2024-04932.

This notice is being amended to change the meeting start time from 10:00 a.m. to 9:00 a.m. The meeting is closed to the public in accordance with provisions set forth in sections 552b(c)(4) and 552b(c)(6).

Dated: March 11, 2024.
Melanie J. Pantoja,
Program Analyst, Office of Federal Advisory Committee Policy.

[FR Doc. 2024-05483 Filed 3-14-24; 8:45 am]

BILLING CODE 4140-01-P